DEPARTMENT OF THE INTERIOR

National Park Service

Native American Graves Protection and Repatriation Review Committee: Nomination Solicitation

AGENCY: National Park Service, Interior.

ACTION: Native American Graves Protection and Repatriation Review Committee; Notice of Nomination Solicitation.

SUMMARY: The National Park Service is soliciting nominations for two members of the Native American Graves Protection and Repatriation Review Committee. The Secretary of the Interior will appoint one member from nominations submitted by Indian tribes, Native Hawaiian organizations, and traditional Native American religious leaders. This particular appointee is not required to be a traditional Native American religious leader. The Secretary of the Interior will also appoint one member from nominations submitted by national museum organizations and scientific organizations.

Nominations must include the following information.1. Nominations by Indian tribes or Native Hawaiian organizations: Nominations must be submitted on official tribal or organization letterhead with the nominator's original signature and daytime telephone number. The nominator must be the official authorized by the tribe or organization to submit nominations in response to this solicitation. The nomination must include a statement that the nominator is so authorized.

2. Nominations by traditional religious leaders: Nominations must be submitted with the nominator's original signature and daytime telephone number. The nominator must explain how he or she meets the definition of traditional religious leader.

3. Nominations by national museum organizations and scientific organizations: Nominations must be submitted on organization letterhead with the nominator's original signature and daytime telephone number. The nominator must be the official authorized by the organization to submit nominations in response to this solicitation. The nomination must include a statement that the nominator is so authorized.

4. Information about nominees: All nominations must include the following information:

a. nominee's name, address, and daytime telephone number and e-mail address; and

b. nominee's resume or brief biography emphasizing the nominee's NAGPRA experience and ability to work effectively as a member of an advisory board.

Nominations that do not include all of the abovementioned information will be considered non-responsive to this solicitation.

DATES: Nominations must be received by October 16, 2006.

ADDRESSES: Via U.S. Mail: Address nominations to Designated Federal Officer, Native American Graves Protection and Repatriation Review Committee, National NAGPRA Program, National Park Service, 1849 C Street NW (2253), Washington, DC 20240. Because increased security in the Washington, DC, area may delay delivery of U.S. Mail to U.S. Government offices, a copy of each mailed nomination should also be faxed to (202) 371-5197. Via commercial delivery: Address nominations to C. Timothy McKeown, Designated Federal Officer, Native American Graves Protection and Repatriation Review Committee, National NAGPRA Program, National Park Service, 1201 Eye Street NW, 8th floor, Washington, DC 20005.

SUPPLEMENTARY INFORMATION: 1. The Review Committee was established by the Native American Graves Protection and Repatriation Act of 1990 (NAGPRA), 25 U.S.C. 3001 et seq.

2. The Review Committee is responsible for—

a. monitoring the NAGPRA inventory and identification process;

b. reviewing and making findings related to the identity or cultural affiliation of cultural items, or the return of such items;

c. facilitating the resolution of disputes;

d. compiling an inventory of culturally unidentifiable human remains and developing a process for disposition of such remains;

e. consulting with Indian tribes and Native Hawaiian organizations and museums on matters within the scope of the work of the Review Committee affecting such tribes or organizations;

f. consulting with the Secretary of the Interior in the development of regulations to carry out NAGPRA; and

g. making recommendations regarding future care of repatriated cultural items.

3. Seven members compose the Review Committee. All members are appointed by the Secretary of the Interior. The Secretary may not appoint Federal officers or employees to the Review Committee.

a. Three members are appointed from nominations submitted by Indian tribes, Native Hawaiian organizations, and traditional Native American religious leaders. At least two of these members must be traditional Native American religious leaders.

b. Three members are appointed from nominations submitted by national museum organizations and scientific organizations.

c. One member is appointed from a list of persons developed and consented to by all of the other members.

4. Members serve as Special Governmental Employees, which requires submission of annual financial disclosure reports and completion of annual ethics training.

5. Appointment terms: Members are appointed for 4-year terms and incumbent members may be reappointed for 2-year terms.

6. The Review Committee's work is completed during public meetings. The Review Committee normally meets face-to-face two times per year, and each meeting is normally two or three days. The Review Committee may also hold one or more public teleconferences of several hours duration.

7. Compensation: Review Committee members are compensated for their participation in Review Committee meetings.

8. Reimbursement: Review Committee members are reimbursed for travel expenses incurred in association with Review Committee meetings.

9. Additional information regarding the Review Committee, including the Review Committee's charter, meeting protocol, and dispute resolution procedures, is available on the National NAGPRA program Web site, www.cr.nps.gov/nagpra (click “Review Committee” in the menu on the right).

10. The terms “Indian tribe,” “Native Hawaiian organization,” and “traditional religious leader” have the same definitions as given in 43 CFR 10.2.

FOR FURTHER INFORMATION CONTACT: C. Timothy McKeown, Designated Federal Officer, Native American Graves Protection and Repatriation Review Committee, National NAGPRA Program, National Park Service, 1849 C Street NW (2253), Washington, DC 20240; telephone (202) 354-2206; e-mail tim_mckeown@nps.gov.

Dated: June 26, 2006
C. Timothy McKeown,
Designated Federal Officer,
Native American Graves Protection and Repatriation Review Committee.

[FR Doc. E6-13589 Filed 8-16-06; 8:45 am]

BILLING CODE 4314-50-S